ENVIRONMENTAL PROTECTION AGENCY

40 CFR Part 55

[EPA-R03-OAR-2011-0140; FRL-9999-40-Region 9]

Outer Continental Shelf Air Regulations; Consistency Update for Virginia

AGENCY: Environmental Protection Agency (EPA).

ACTION: Final rule.

SUMMARY: The Environmental Protection Agency (EPA) is updating a portion of the Outer Continental Shelf (OCS) Air Regulations. Requirements applying to OCS sources located within 25 miles of states' seaward boundaries must be updated periodically to remain consistent with the requirements of the corresponding onshore area (COA), as mandated by section 328(a)(1) of the Clean Air Act (CAA). The portion of the OCS air regulations that is being updated pertains to the requirements for OCS sources for which Virginia is the designated COA. The Commonwealth of Virginia's requirements discussed in this document and listed in the appendix to the Federal OCS air regulations, are approved for incorporation into the compilation of state provisions that is incorporated by reference.

DATES: This rule is effective on November 20, 2019. The incorporation by reference of a certain publication listed in this rule is approved by the Director of the Federal Register as of November 20, 2019.

ADDRESSES: EPA has established a docket for this action under Docket ID Number EPA-R03-OAR-2011-0140. All documents in the docket are listed on the https://www.regulations.gov website. Although listed in the index, some information is not publicly available, e.g., confidential business information (CBI) or other information whose disclosure is restricted by statute. Certain other material, such as copyrighted material, is not placed on the internet and will be publicly available only in hard copy form. Publicly available docket materials are available through https://www.regulations.gov, or please contact the person identified in the For Further Information Contact section for additional availability information.

FOR FURTHER INFORMATION CONTACT: Mrs. Amy Johansen, Permits Branch (3AD10), Air and Radiation Division, U.S. Environmental Protection Agency, Region III, 1650 Arch Street, Philadelphia, Pennsylvania 19103. The telephone number is (215) 814-2156. Mrs. Johansen can also be reached via electronic mail at johansen.amy@epa.gov.

SUPPLEMENTARY INFORMATION:

I. Background

On April 16, 2019, EPA published a Notice of Proposed Rulemaking (NPRM) proposing to approve various Virginia air pollution control requirements for inclusion in the updated compilation of “Commonwealth of Virginia Requirements Applicable to OCS Sources,” dated February 20, 2019, which is incorporated by reference into 40 CFR part 55. See 84 FR 15549.

Pursuant to 40 CFR 55.12, consistency reviews will occur (1) at least annually; (2) upon receipt of a Notice of Intent (NOI) under 40 CFR 55.4; or (3) when a state or local agency submits a rule to EPA to be considered for incorporation by reference in 40 CFR part 55. This action is being taken in response to the submittal of a NOI, received on January 28, 2019, by Dominion Energy Virginia, for the proposed installation of a 12-megawatt offshore wind technology testing facility located approximately 24 nautical miles east of the City of Virginia Beach, Virginia.¹

¹ The EPA Region III Office was directly impacted by Congress' failure to appropriate funds during the 2018-19 Federal government shutdown and resulting furlough of many Federal employees, including Region III personnel. As a result, although the NOI from Dominion Energy Virginia was signed on December 21, 2018, it was not received and date-stamped by EPA Region III until January 28, 2019, when the Region III office returned to operation.

Section 328(a) of the CAA requires that EPA establish requirements to control air pollution from OCS sources located within 25 miles of States' seaward boundaries that are the same as onshore requirements. To comply with this statutory mandate, EPA must incorporate applicable onshore rules into 40 CFR part 55 as they exist onshore. This limits EPA's flexibility in deciding which requirements will be incorporated into 40 CFR part 55 and prevents EPA from making substantive changes to the requirements it incorporates. As a result, EPA may be incorporating rules into 40 CFR part 55 that do not conform to all of EPA's state implementation plan (SIP) guidance or certain requirements of the CAA. Consistency updates may result in the inclusion of state or local rules or regulations into 40 CFR part 55, even though the same rules may ultimately be disapproved for inclusion as part of the SIP. Inclusion in the OCS rule does not imply that a rule meets the requirements of the CAA for SIP approval, nor does it imply that the rule will be approved by EPA for inclusion in the SIP.

EPA reviewed Virginia's rules for inclusion in 40 CFR part 55 to ensure that they are rationally related to the attainment or maintenance of Federal or state ambient air quality standards and compliance with part C of title I of the CAA, that they are not designed expressly to prevent exploration and development of the OCS, and that they are potentially applicable to OCS sources. See 40 CFR 55.1. EPA has also evaluated the rules to ensure they are not arbitrary or capricious. See 40 CFR 55.12(e). In addition, EPA has excluded administrative or procedural rules,² and requirements that regulate toxics which are not related to the attainment and maintenance of Federal and state ambient air quality standards. Other specific requirements of the consistency update and the rationale for EPA's proposed action are explained in the April 16, 2019 NPRM and will not be restated here.

² Each COA which has been delegated the authority to implement and enforce 40 CFR part 55 will use its administrative and procedural rules as onshore. However, in those instances where EPA has not delegated authority to implement and enforce 40 CFR part 55, EPA will use its own administrative and procedural requirements to implement the substantive requirements. See 40 CFR 55.14(c)(4). Virginia has been delegated authority to implement and enforce the requirements of the OCS Regulations within 25 miles of Virginia's seaward boundary. See 77 FR 44231 (July 27, 2012).

II. Public Comments and EPA Responses

EPA received three sets of comments on the April 16, 2019 NPRM. See 84 FR 15549. A summary of the relevant comments and EPA's responses are discussed in this Section. A copy of the comments can be found in the docket for this rulemaking action.

Comment: The Virginia Department of Environmental Quality (VADEQ) requested that EPA remove references to state-only toxics programs from being incorporated by reference into 40 CFR part 55, as proposed in EPA's April 16, 2019 NPRM. See 84 FR 15549. This affects the following sections of the Virginia Administrative Code (VAC): 9VAC5-40-350, 9VAC5-40-790, 9VAC5-40-970, 9VAC5-40-1880, 9VAC5-40-2310, 9VAC5-40-2460, 9VAC5-40-2610, 9VAC5-40-3330, 9VAC5-40-3480, 9VAC5-40-4830, 9VAC5-40-5270, 9VAC5-40-6390, 9VAC5-40-6690, 9VAC5-40-6880, 9VAC5-40-7030, 9VAC5-40-7470, 9VAC5-40-8090, 9VAC5-50-320, and Article 4 (9VAC5-60-200 et seq.) and Article 5 (9VAC5-60-300 et seq.) of 9VAC5-60 in their entirety.

EPA Response: At Virginia's request, in this final rulemaking action, EPA removed all references to the air toxics regulations in the compilation of the “Commonwealth of Virginia Requirements Applicable to OCS Sources” in 40 CFR part 55. EPA does not believe removal of the toxics sections of VAC will have any adverse impact on VADEQ's ability to properly implement air quality permitting for OCS sources, since they are not related to the attainment and maintenance of Federal and state ambient air quality standards.

Comment: VADEQ requested that Part I (9VAC5-80-5 et seq.) of 9VAC5-80 be removed in its entirety from 40 CFR part 55, noting that this section, Permit Actions Before the Board, is a requirement of state code and cannot be implemented or enforced by EPA.

EPA Response: At Virginia's request, in this final rulemaking action, EPA removed Part I of 9VAC5-80 from the compilation of the “Commonwealth of Virginia Requirements Applicable to OCS Sources” in 40 CFR part 55. EPA does not believe removal of Part I (9VAC5-80-5 et seq.) of 9VAC5-80 will have any adverse impact on VADEQ's ability to properly implement air quality permitting on OCS sources, since they are not related to the attainment and maintenance of Federal and state ambient air quality standards.

Additionally, for clarification purposes, because Virginia has been delegated authority to implement and enforce the requirements of the OCS Regulations within 25 miles of Virginia's seaward boundary, the inclusion of a regulation into 40 CFR part 55 does not designate EPA as the appropriate authority to implement or enforce those provisions of Virginia's regulations, but, rather, reinforces that VADEQ has the ability to implement and enforce those potentially applicable provisions on OCS sources, for which Virginia is designated as the COA. See 77 FR 44231 (July 27, 2012).

Comment: VADEQ noted a typographical error in EPA's April 16, 2019 NPRM under Article 1 (9VAC5-80-50 et seq.) of Part II of 9VAC5-80, the effective date of 03/02/2011 should be corrected to be 11/16/2016.

EPA Response: EPA agrees with the commenter and has made the requested typographical correction.

Comment: VADEQ requested that Part IV (9VAC5-130-100) of 9VAC5-130 be removed. VADEQ noted that this section, Local Ordinances, is a template for the use of local jurisdictions to develop their own open burning ordinances. VADEQ also noted that this is a requirement of state code and cannot be implemented or enforced by EPA.

EPA Response: At Virginia's request, in this final rulemaking action, EPA removed Part IV (9VAC5-130-100) of 9VAC5-130 from the compilation of the “Commonwealth of Virginia Requirements Applicable to OCS Sources” in 40 CFR part 55. EPA does not believe removal of Part IV (9VAC5-130-100) of 9VAC5-130 will have any adverse impact on VADEQ's ability to properly implement air quality permitting on OCS sources, since they are not related to the attainment and maintenance of Federal and state ambient air quality standards.

In a previous response to comment, EPA addressed VADEQ's statement regarding EPA's ability to implement or enforce VAC provisions and will not be restating that here.

Comment: One commenter stated that regulating emissions from OCS sources within 25 miles of the coast to make them in accordance with onshore sources could make existing OCS sources within 25 miles obsolete. The commenter further asserts that dozens of oil rigs inside 25 miles comply with current OCS regulations, which require them to lower their emissions. In turn, the commenter states that requiring sources to comply with OCS requirements could cost rig owners a significant amount of money if they have to update or modify the rigs to comply. The commenter asserts that this could hurt many drilling businesses and as a result, hurt the economy. Finally, the commenter asks EPA to not go through with this proposal and allow companies to continue drilling within 25 miles of the shore under the current OCS regulations.

EPA Response: As noted in EPA's April 16, 2019 NPRM, this action is being taken because section 328(a) of the CAA requires that EPA establish requirements to control air pollution from OCS sources located within 25 miles of States' seaward boundaries that are the same as onshore requirements. See 84 FR 15549. To comply with this statutory mandate, EPA must incorporate applicable onshore rules into 40 CFR part 55 as they exist onshore. This limits EPA's flexibility in deciding which requirements will be incorporated into 40 CFR part 55 and prevents EPA from making substantive changes to the requirements it incorporates. This rulemaking action is simply updating requirements that were previously incorporated by reference into 40 CFR part 55. See 76 FR 43185 (July 20, 2011). Further, as noted in EPA's April 16, 2019 NPRM and 40 CFR part 55.1, EPA reviewed all of the potentially applicable sections of VAC to ensure they are not designed expressly to prevent exploration and development of the OCS.

Comment: Another commenter expressed that the proposed rule should take effect. The commenter then discusses Virginia's designation as the COA and that the designation enhances the OCS sources' protection. The commenter then goes on to discuss tourism in Virginia. Finally, the commenter concludes that Virginia should go further to control air pollution from OCS sources and comply with standards of the COA.

EPA Response: While it is unclear to EPA exactly what the commenter's main concern is with respect to this rulemaking action, EPA is meeting its statutory obligations in CAA section 328(a)(1) and the requirements of 40 CFR part 55 with respect to specific OCS requirements, upon finalizing this rulemaking action. Additionally, the ability of VADEQ to implement and enforce air quality provisions potentially applicable to an OCS source, for which Virginia is the COA, occurs because Virginia has been delegated the authority, by the EPA, to administer and enforce OCS air requirements. See 77 FR 44231 (July 27, 2012). Lastly, it should be noted that there are many other Federal, state, and local agencies involved in the process of developing the OCS, and in this final rulemaking action, EPA is ensuring that VADEQ has the ability to implement and enforce any necessary applicable air quality regulations for which they have been designated as the COA for that source.

III. Final Action

EPA is taking final action to incorporate the rules potentially applicable to OCS sources for which the Commonwealth of Virginia will be the COA. The rules that EPA is taking final action to incorporate are applicable provisions of VAC, as amended through February 20, 2019. The rules that EPA is taking final action to incorporate will replace the rules previously incorporated into “Commonwealth of Virginia Requirements Applicable to OCS Sources,” dated March 2, 2011, which was incorporated by reference into 40 CFR part 55. See 76 FR 43185 (July 20, 2011).

IV. Incorporation by Reference

In this rule, EPA is finalizing regulatory text that includes incorporation by reference. In accordance with the requirements of 1 CFR 51.5, EPA is finalizing the incorporation by reference of “Commonwealth of Virginia Requirements Applicable to OCS Sources,” dated February 20, 2019, which is the compilation of provisions of the VAC described in the amendments to 40 CFR part 55 set forth below. EPA has made, and will continue to make, these materials available through www.regulations.gov and at the EPA Region III Office (please contact the person identified in the FOR FURTHER INFORMATION CONTACT section of this preamble for more information).

V. Statutory and Executive Order Reviews

Under the Clean Air Act, the Administrator is required to establish requirements to control air pollution from OCS sources located within 25 miles of states' seaward boundaries that are the same as onshore air pollution control requirements. To comply with this statutory mandate, the EPA must incorporate applicable onshore rules into 40 CFR part 55 as they exist onshore. See 42 U.S.C. 7627(a)(1); 40 CFR 55.12. Thus, in promulgating OCS consistency updates, EPA's role is to maintain consistency between OCS regulations and the regulations of onshore areas, provided that they meet the criteria of the CAA. Accordingly, this action simply updates the existing OCS requirements to make them consistent with requirements onshore, without the exercise of any policy direction by EPA. For that reason, this action:

• Is not a “significant regulatory action” subject to review by the Office of Management and Budget under Executive Orders 12866 (58 FR 51735, October 4, 1993) and 13563 (76 FR 3821, January 21, 2011);

• Is not an Executive Order 13771 regulatory action because this action is not significant under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule incorporating by reference sections of VAC, does not have tribal implications as specified by Executive Order 13175 (65 FR 67249, November 9, 2000), because this action is not approved to apply in Indian country located in the state, and EPA notes that it does not impose substantial direct costs on tribal governments or preemptive tribal law.

Under the provisions of the Paperwork Reduction Act, 44 U.S.C 3501 et seq., an agency may not conduct or sponsor, and a person is not required to respond to, a collection of information unless it displays a currently valid OMB control number. OMB has approved the information collection requirements contained in 40 CFR part 55 and, by extension, this update to the rules, and has assigned OMB control number 2060-0249. OMB approved the EPA Information Collection Request (ICR) No. 1601.08 on September 18, 2017.³ The current approval expires September 30, 2020. The annual public reporting and recordkeeping burden for collection of information under 40 CFR part 55 is estimated to average 643 hours per response, using the definition of burden provided in 44 U.S.C. 3502(2).

³ OMB's approval of the ICR can be viewed at www.reginfo.gov.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 20, 2019. Filing a petition for reconsideration by the Administrator of this final rule does not affect the finality of this action for the purposes of judicial review nor does it extend the time within which a petition for judicial review may be filed and shall not postpone the effectiveness of such rule or action. This action may not be challenged later in proceedings to enforce its requirements. (See section 307(b)(2).)

EPA is incorporating the rules potentially applicable to sources for which the Commonwealth of Virginia is the COA. The rules that EPA is incorporating are applicable provisions of VAC.

List of Subjects in 40 CFR Part 55

Environmental protection, Administrative practice and procedure, Air pollution control, Carbon monoxide, Incorporation by reference, Intergovernmental relations, Lead, Nitrogen dioxide, Outer continental shelf, Ozone, Particulate matter, Permits, Reporting and recordkeeping requirements, Sulfur oxides, Volatile organic compounds.

Dated: August 27, 2019.
Cosmo Servidio,
Regional Administrator, Region III.

Part 55 of Chapter I, title 40 of the Code of Federal Regulations is amended as follows:

PART 55—OUTER CONTINENTAL SHELF AIR REGULATIONS

1. The authority citation for part 55 continues to read as follows:

Authority: Section 328 of the Clean Air Act (42 U.S.C. 7401 et seq.) as amended by Public Law 101-549.

2. Section 55.14 is amended by revising paragraph (e)(22)(i)(A) to read as follows:

§ 55.14 Requirements that apply to OCS sources located within 25 miles of States' seaward boundaries, by State.

* * * * *

(e) * * *

(22) * * *

(i) * * *

(A) Commonwealth of Virginia Requirements Applicable to OCS Sources, February 20, 2019.

* * * * *

3. Appendix A to part 55 is amended by revising paragraph (a)(1) under the heading “Virginia” to read as follows:

Appendix A to Part 55—Listing of State and Local Requirements Incorporated by Reference Into Part 55, by State

* * * * *

Virginia:

(a) * * *

(1) The following Commonwealth of Virginia requirements are applicable to OCS Sources, February 20, 2019, Commonwealth of Virginia—Virginia Department of Environmental Quality.

The following sections of Virginia Regulations for the Control and Abatement of Air Pollution Control (VAC), Title 9, Agency 5:

Chapter 10—General Definitions

(Effective 05/19/2017)

9VAC5-10-10. General.

9VAC5-10-20. Terms defined.

9VAC5-10-30. Abbreviations.

Chapter 20—General Provisions

(Effective 02/19/2018)

Part I—Administrative

9VAC5-20-10. Applicability.

9VAC5-20-21. Documents incorporated by reference.

9VAC5-20-50. Variances.

9VAC5-20-70. Circumvention.

9VAC5-20-80. Relationship of state regulations to federal regulations.

9VAC5-20-121. Air quality program policies and procedures.

Part II—Air Quality Programs

9VAC5-20-160. Registration.

9VAC5-20-170. Control programs.

9VAC5-20-180. Facility and control equipment maintenance or malfunction.

9VAC5-20-200. Air quality control regions.

9VAC5-20-203. Maintenance areas.

9VAC5-20-204. Nonattainment areas.

9VAC5-20-205. Prevention of significant deterioration areas.

9VAC5-20-206. Volatile organic compound and nitrogen oxides emission control areas.

9VAC5-20-220. Shutdown of a stationary source.

9VAC5-20-230. Certification of documents.

Chapter 30—Ambient Air Quality Standards

(Effective 05/15/2017)

9VAC5-30-10. General.

9VAC5-30-15. Reference conditions.

9VAC5-30-30. Sulfur oxides (sulfur dioxide).

9VAC5-30-40. Carbon monoxide.

9VAC5-30-50. Ozone (1-hour).

9VAC5-30-55. Ozone (8-hour, 0.08 ppm).

9VAC5-30-56. Ozone (8-hour, 0.075 ppm).

9VAC5-30-57. Ozone (8-hour, 0.070 ppm).

9VAC5-30-60. Particulate matter (PM10).

9VAC5-30-65. Particulate matter (PM2.5).

9VAC5-30-66. Particulate matter (PM2.5).

9VAC5-30-67. Particulate matter (PM2.5).

9VAC5-30-70. Oxides of nitrogen with nitrogen dioxide as the indicator.

9VAC5-30-80. Lead.

Chapter 40—Existing Stationary Sources

Part I—Special Provisions

(Effective 12/12/2007)

9VAC5-40-10. Applicability.

9VAC5-40-20. Compliance.

9VAC5-40-21. Compliance schedules.

9VAC5-40-22. Interpretation of emission standards based on process weight-rate tables.

9VAC5-40-30. Emission testing.

9VAC5-40-40. Monitoring.

9VAC5-40-41. Emission monitoring procedures for existing sources.

9VAC5-40-50. Notification, records and reporting.

Part II—Emission Standards

Article 1—Visible Emissions and Fugitive Dust/Emissions

(Effective 02/01/2003)

9VAC5-40-60. Applicability and designation of affected facility.

9VAC5-40-70. Definitions.

9VAC5-40-80. Standard for visible emissions.

9VAC5-40-90. Standard for fugitive dust/emissions.

9VAC5-40-100. Monitoring.

9VAC5-40-110. Test methods and procedures.

9VAC5-40-120. Waivers.

Article 4—General Process Operations

(Effective 12/15/2006)

9VAC5-40-240. Applicability and designation of affected facility.

9VAC5-40-250. Definitions.

9VAC5-40-260. Standard for particulate matter (AQCR 1-6).

9VAC5-40-270. Standard for particulate matter (AQCR 7).

9VAC5-40-280. Standard for sulfur dioxide.

9VAC5-40-290. Standard for hydrogen sulfide.

9VAC5-40-320. Standard for visible emissions.

9VAC5-40-330. Standard for fugitive dust/emissions.

9VAC5-40-360. Compliance.

9VAC5-40-370. Test methods and procedures.

9VAC5-40-380. Monitoring.

9VAC5-40-390. Notification, records and reporting.

9VAC5-40-400. Registration.

9VAC5-40-410. Facility and control equipment maintenance or malfunction.

9VAC5-40-420. Permits.

Article 7—Incinerators

(Effective 01/01/1985)

9VAC5-40-730. Applicability and designation of affected facility.

9VAC5-40-740. Definitions.

9VAC5-40-750. Standard for particulate matter.

9VAC5-40-760. Standard for visible emissions.

9VAC5-40-770. Standard for fugitive dust/emissions.

9VAC5-40-800. Prohibition of flue-fed incinerators.

9VAC5-40-810. Compliance.

9VAC5-40-820. Test methods and procedures.

9VAC5-40-830. Monitoring.

9VAC5-40-840. Notification, records and reporting.

9VAC5-40-850. Registration.

9VAC5-40-860. Facility and control equipment maintenance or malfunction.

9VAC5-40-870. Permits.

Article 8—Fuel Burning Equipment

(Effective 01/01/2002)

9VAC5-40-880. Applicability and designation of affected facility.

9VAC5-40-890. Definitions.

9VAC5-40-900. Standard for particulate matter.

9VAC5-40-910. Emission allocation system.

9VAC5-40-920. Determination of collection equipment efficiency factor.

9VAC5-40-930. Standard for sulfur dioxide.

9VAC5-40-940. Standard for visible emissions.

9VAC5-40-950. Standard for fugitive dust/emissions.

9VAC5-40-980. Compliance.

9VAC5-40-990. Test methods and procedures.

9VAC5-40-1000. Monitoring.

9VAC5-40-1010. Notification, records and reporting.

9VAC5-40-1020. Registration.

9VAC5-40-1030. Facility and control equipment maintenance or malfunction.

9VAC5-40-1040. Permits.

Article 14—Sand-Gravel Processing; Stone Quarrying & Processing

(Effective 01/01/1985)

9VAC5-40-1820. Applicability and designation of affected facility.

9VAC5-40-1830. Definitions.

9VAC5-40-1840. Standard for particulate matter.

9VAC5-40-1850. Standard for visible emissions.

9VAC5-40-1860. Standard for fugitive dust/emissions.

9VAC5-40-1890. Compliance.

9VAC5-40-1900. Test methods and procedures.

9VAC5-40-1910. Monitoring.

9VAC5-40-1920. Notification, records and reporting.

9VAC5-40-1930. Registration.

9VAC5-40-1940. Facility and control equipment maintenance or malfunction.

9VAC5-40-1950. Permits.

Article 17—Woodworking Operations

(Effective 01/01/1985)

9VAC5-40-2250. Applicability and designation of affected facility.

9VAC5-40-2260. Definitions.

9VAC5-40-2270. Standard for particulate matter.

9VAC5-40-2280. Standard for visible emissions.

9VAC5-40-2290. Standard for fugitive dust/emissions.

9VAC5-40-2320. Compliance.

9VAC5-40-2330. Test methods and procedures.

9VAC5-40-2340. Monitoring.

9VAC5-40-2350. Notification, records and reporting.

9VAC5-40-2360. Registration.

9VAC5-40-2370. Facility and control equipment maintenance or malfunction.

9VAC5-40-2380. Permits.

Article 18—Primary and Secondary Metal Operations

(Effective 01/01/1985)

9VAC5-40-2390. Applicability and designation of affected facility.

9VAC5-40-2400. Definitions.

9VAC5-40-2410. Standard for particulate matter.

9VAC5-40-2420. Standard for sulfur oxides.

9VAC5-40-2430. Standard for visible emissions.

9VAC5-40-2440. Standard for fugitive dust/emissions.

9VAC5-40-2470. Compliance.

9VAC5-40-2480. Test methods and procedures.

9VAC5-40-2490. Monitoring.

9VAC5-40-2500. Notification, records and reporting.

9VAC5-40-2510. Registration.

9VAC5-40-2520. Facility and control equipment maintenance or malfunction.

9VAC5-40-2530. Permits.

Article 19—Lightweight Aggregate Process Operations

(Effective 01/01/1985)

9VAC5-40-2540. Applicability and designation of affected facility.

9VAC5-40-2550. Definitions.

9VAC5-40-2560. Standard for particulate matter.

9VAC5-40-2570. Standard for sulfur oxides.

9VAC5-40-2580. Standard for visible emissions.

9VAC5-40-2590. Standard for fugitive dust/emissions.

9VAC5-40-2620. Compliance.

9VAC5-40-2630. Test methods and procedures.

9VAC5-40-2640. Monitoring.

9VAC5-40-2650. Notification, records and reporting.

9VAC5-40-2660. Registration.

9VAC5-40-2670. Facility and control equipment maintenance or malfunction.

9VAC5-40-2680. Permits.

Article 24—Solvent Metal Cleaning Operations

(Effective 03/24/2004)

9VAC5-40-3260. Applicability and designation of affected facility.

9VAC5-40-3270. Definitions.

9VAC5-40-3280. Standard for volatile organic compounds.

9VAC5-40-3290. Control technology guidelines.

9VAC5-40-3300. Standard for visible emissions.

9VAC5-40-3310. Standard for fugitive dust/emissions.

9VAC5-40-3340. Compliance.

9VAC5-40-3350. Test methods and procedures.

9VAC5-40-3360. Monitoring.

9VAC5-40-3370. Notification, records and reporting.

9VAC5-40-3380. Registration.

9VAC5-40-3390. Facility and control equipment maintenance or malfunction.

9VAC5-40-3400. Permits.

Article 25—VOC Storage & Transfer Operations

(Effective 07/01/1991)

9VAC5-40-3410. Applicability and designation of affected facility.

9VAC5-40-3420. Definitions.

9VAC5-40-3430. Standard for volatile organic compounds.

9VAC5-40-3440. Control technology guidelines.

9VAC5-40-3450. Standard for visible emissions.

9VAC5-40-3460. Standard for fugitive dust/emissions.

9VAC5-40-3490. Compliance.

9VAC5-40-3500. Test methods and procedures.

9VAC5-40-3510. Monitoring.

9VAC5-40-3520. Notification, records and reporting.

9VAC5-40-3530. Registration.

9VAC5-40-3540. Facility and control equipment maintenance or malfunction.

9VAC5-40-3550. Permits.

Article 34—Miscellaneous Metal Parts/Products Coating Application

(Effective 02/01/2016)

9VAC5-40-4760. Applicability and designation of affected facility.

9VAC5-40-4770. Definitions.

9VAC5-40-4780. Standard for volatile organic compounds.

9VAC5-40-4790. Control technology guidelines.

9VAC5-40-4800. Standard for visible emissions.

9VAC5-40-4810. Standard for fugitive dust/emissions.

9VAC5-40-4840. Compliance.

9VAC5-40-4850. Test methods and procedures.

9VAC5-40-4860. Monitoring.

9VAC5-40-4870. Notification, records and reporting.

9VAC5-40-4880. Registration.

9VAC5-40-4890. Facility and control equipment maintenance or malfunction.

9VAC5-40-4900. Permits.

Article 37—Petroleum Liquid Storage and Transfer Operations

(Effective 07/30/2015)

9VAC5-40-5200. Applicability and designation of affected facility.

9VAC5-40-5210. Definitions.

9VAC5-40-5220. Standard for volatile organic compounds.

9VAC5-40-5230. Control technology guidelines.

9VAC5-40-5240. Standard for visible emissions.

9VAC5-40-5250. Standard for fugitive dust/emissions.

9VAC5-40-5280. Compliance.

9VAC5-40-5290. Test methods and procedures.

9VAC5-40-5300. Monitoring.

9VAC5-40-5310. Notification, records and reporting.

9VAC5-40-5320. Registration.

9VAC5-40-5330. Facility and control equipment maintenance or malfunction.

9VAC5-40-5340. Permits.

Article 41—Mobile Sources

(Effective 08/01/1991)

9VAC5-40-5650. Applicability and designation of affected facility.

9VAC5-40-5660. Definitions.

9VAC5-40-5670. Motor vehicles.

9VAC5-40-5680. Other mobile sources.

9VAC5-40-5690. Export/import of motor vehicles.

Article 45—Commercial/Industrial Solid Waste Incinerators

(Effective 11/16/2016)

9VAC5-40-6250. Applicability and designation of affected facility.

9VAC5-40-6260. Definitions.

9VAC5-40-6270. Standard for particulate matter.

9VAC5-40-6360. Standard for visible emissions.

9VAC5-40-6370. Standard for fugitive dust/emissions.

9VAC5-40-6400. Operator training and qualification.

9VAC5-40-6410. Waste management plan.

9VAC5-40-6420. Compliance schedule.

9VAC5-40-6430. Operating limits.

9VAC5-40-6440. Facility and control equipment maintenance or malfunction.

9VAC5-40-6450. Test methods and procedures.

9VAC5-40-6460. Compliance.

9VAC5-40-6470. Monitoring.

9VAC5-40-6480. Recordkeeping and reporting.

9VAC5-40-6490. Requirements for air curtain incinerators.

9VAC5-40-6500. Registration.

9VAC5-40-6510. Permits.

9VAC5-40-6520. Documents Incorporated by Reference.

Article 46—Small Municipal Waste Combustors

(Effective 05/04/2005)

9VAC5-40-6550. Applicability and designation of affected facility.

9VAC5-40-6560. Definitions.

9VAC5-40-6570. Standard for particulate matter.

9VAC5-40-6580. Standard for carbon monoxide.

9VAC5-40-6590. Standard for dioxins/furans.

9VAC5-40-6600. Standard for hydrogen chloride.

9VAC5-40-6610. Standard for sulfur dioxide.

9VAC5-40-6620. Standard for nitrogen oxides.

9VAC5-40-6630. Standard for lead.

9VAC5-40-6640. Standard for cadmium.

9VAC5-40-6650. Standard for mercury.

9VAC5-40-6660. Standard for visible emissions.

9VAC5-40-6670. Standard for fugitive dust/emissions.

9VAC5-40-6700. Operator training and certification.

9VAC5-40-6710. Compliance schedule.

9VAC5-40-6720. Operating requirements.

9VAC5-40-6730. Compliance.

9VAC5-40-6740. Test methods and procedures.

9VAC5-40-6750. Monitoring.

9VAC5-40-6760. Recordkeeping.

9VAC5-40-6770. Reporting.

9VAC5-40-6780. Requirements for air curtain incinerators that burn 100 percent yard waste.

9VAC5-40-6790. Registration.

9VAC5-40-6800. Facility and control equipment maintenance or malfunction.

9VAC5-40-6810. Permits.

Article 47—Solvent Cleaning

(Effective 03/24/2004)

9VAC5-40-6820. Applicability and designation of affected facility.

9VAC5-40-6830. Definitions.

9VAC5-40-6840. Standard for volatile organic compounds.

9VAC5-40-6850. Standard for visible emissions.

9VAC5-40-6860. Standard for fugitive dust/emissions.

9VAC5-40-6890. Compliance.

9VAC5-40-6900. Compliance schedules.

9VAC5-40-6910. Test methods and procedures.

9VAC5-40-6920. Monitoring.

9VAC5-40-6930. Notification, records and reporting.

9VAC5-40-6940. Registration.

9VAC5-40-6950. Facility and control equipment maintenance or malfunction.

9VAC5-40-6960. Permits.

Article 48—Mobile Equipment Repair and Refinishing

(Effective 10/01/2013)

9VAC5-40-6970. Applicability and designation of affected facility.

9VAC5-40-6975. Exemptions.

9VAC5-40-6980. Definitions.

9VAC5-40-6990. Standard for volatile organic compounds.

9VAC5-40-7000. Standard for visible emissions.

9VAC5-40-7010. Standard for fugitive dust/emissions.

9VAC5-40-7040. Compliance.

9VAC5-40-7050. Compliance schedule.

9VAC5-40-7060. Test methods and procedures.

9VAC5-40-7070. Monitoring.

9VAC5-40-7080. Notification, records and reporting.

9VAC5-40-7090. Registration.

9VAC5-40-7100. Facility and control equipment maintenance or malfunction.

9VAC5-40-7110. Permits.

Article 51—Stationary Sources Subject to Case-by-Case RACT Determinations

(Effective 12/02/2015)

9VAC5-40-7370. Applicability and designation of affected facility.

9VAC5-40-7380. Definitions.

9VAC5-40-7390. Standard for volatile organic compounds (1-hour ozone standard)

9VAC5-40-7400. Standard for volatile organic compounds (8-hour ozone standard).

9VAC5-40-7410. Standard for nitrogen oxides (1-hour ozone standard).

9VAC5-40-7420. Standard for nitrogen oxides (8-hour ozone standard).

9VAC5-40-7430. Presumptive reasonably available control technology guidelines for stationary sources of nitrogen oxides.

9VAC5-40-7440. Standard for visible emissions.

9VAC5-40-7450. Standard for fugitive dust/emissions.

9VAC5-40-7480. Compliance.

9VAC5-40-7490. Test methods and procedures.

9VAC5-40-7500. Monitoring.

9VAC5-40-7510. Notification, records and reporting.

9VAC5-40-7520. Registration.

9VAC5-40-7530. Facility and control equipment maintenance or malfunction.

9VAC5-40-7540. Permits.

Article 54—Large Municipal Waste Combustors

(Effective 07/01/2003)

9VAC5-40-7950. Applicability and designation of affected facility.

9VAC5-40-7960. Definitions.

9VAC5-40-7970. Standard for particulate matter.

9VAC5-40-7980. Standard for carbon monoxide.

9VAC5-40-7990. Standard for cadmium.

9VAC5-40-8000. Standard for lead.

9VAC5-40-8010. Standard for mercury.

9VAC5-40-8020. Standard for sulfur dioxide.

9VAC5-40-8030. Standard for hydrogen chloride.

9VAC5-40-8040. Standard for dioxin/furan.

9VAC5-40-8050. Standard for nitrogen oxides.

9VAC5-40-8060. Standard for visible emissions.

9VAC5-40-8070. Standard for fugitive dust/emissions.

9VAC5-40-8100. Compliance.

9VAC5-40-8110. Compliance schedules.

9VAC5-40-8120. Operating practices.

9VAC5-40-8130. Operator training and certification.

9VAC5-40-8140. Test Methods and Procedures.

9VAC5-40-8150. Monitoring.

9VAC5-40-8160. Notification, Records and Reporting.

9VAC5-40-8170. Registration.

9VAC5-40-8180. Facility and control equipment maintenance or malfunction.

9VAC5-40-8190. Permits.

Chapter 50—New and Modified Stationary Sources

Part I—Special Provisions

(Effective 12/12/2007)

9VAC5-50-10. Applicability.

9VAC5-50-20. Compliance.

9VAC5-50-30. Performance testing.

9VAC5-50-40. Monitoring.

9VAC5-50-50. Notification, records and reporting.

Part II—Emission Standards

Article 1—Visible Emissions and Fugitive Dust/Emissions

(Effective 02/01/2003)

9VAC5-50-60. Applicability and designation of affected facility.

9VAC5-50-70. Definitions.

9VAC5-50-80. Standard for visible emissions.

9VAC5-50-90. Standard for fugitive dust/emissions.

9VAC5-50-100. Monitoring.

9VAC5-50-110. Test methods and procedures.

9VAC5-50-120. Waivers.

Article 4—Stationary Sources

(Effective 11/07/2012)

9VAC5-50-240. Applicability and designation of affected facility.

9VAC5-50-250. Definitions.

9VAC5-50-260. Standard for stationary sources.

9VAC5-50-270. Standard for major stationary sources (nonattainment areas).

9VAC5-50-280. Standard for major stationary sources (prevention of significant deterioration areas).

9VAC5-50-290. Standard for visible emissions.

9VAC5-50-300. Standard for fugitive dust/emissions.

9VAC5-50-330. Compliance.

9VAC5-50-340. Test methods and procedures.

9VAC5-50-350. Monitoring.

9VAC5-50-360. Notification, records and reporting.

9VAC5-50-370. Registration.

9VAC5-50-380. Facility and control equipment maintenance or malfunction.

9VAC5-50-390. Permits.

Article 5—EPA New Source Performance Standards

(Effective 02/20/2019)

9VAC5-50-400. General.

9VAC5-50-405. Authority to implement and enforce standards as authorized by EPA.

9VAC5-50-410. Designated standards of performance.

9VAC5-50-420. Word or phrase substitutions.

Chapter 60—Hazardous Air Pollutant Sources

Part I—Special Provisions

(Effective 08/01/2002)

9VAC5-60-10. Applicability.

9VAC5-60-20. Compliance.

9VAC5-60-30. Emission testing.

9VAC5-60-40. Monitoring.

9VAC5-60-50. Notification, records and reporting.

Part II—Emission Standards

Article 1—EPA National Emissions Standards for Hazardous Air Pollutants

(Effective 02/20/2019)

9VAC5-60-60. General.

9VAC5-60-65. Authority to implement and enforce standards as authorized by EPA.

9VAC5-60-70. Designated emission standards.

9VAC5-60-80. Word or phrase substitutions.

Article 2—EPA Maximum Achievable Control Technology Standards

(Effective 03/02/2011)

9VAC5-60-90. General.

9VAC5-60-95. Authority to implement and enforce standards as authorized by EPA.

9VAC5-60-100. Designated emission standards.

9VAC5-60-110. Word or phrase substitutions.

Article 3—Control Technology Determinations for Major Sources of Hazardous Air Pollutants

(Effective 07/01/2004)

9VAC5-60-120. Applicability.

9VAC5-60-130. Definitions.

9VAC5-60-140. Approval process for new and existing affected sources.

9VAC5-60-150. Application content for case-by-case MACT determinations.

9VAC5-60-160. Preconstruction review procedures for new affected sources subject to 9VAC5-60-140 C 1.

9VAC5-60-170. Maximum achievable control technology (MACT) determinations for affected sources subject to case-by-case determination of equivalent emission limitations.

9VAC5-60-180. Requirements for case-by-case determination of equivalent emission limitations after promulgation of a subsequent MACT standard.

Chapter 70—Air Pollution Episode Prevention

(Effective 04/01/1999)

9VAC5-70-10. Applicability.

9VAC5-70-20. Definitions.

9VAC5-70-30. General.

9VAC5-70-40. Episode determination

9VAC5-70-50. Standby emission reduction plans.

9VAC5-70-60. Control requirements.

9VAC5-70-70. Local air pollution control agency participation.

Chapter 80—Permits for Stationary Sources

Part II—Permit Procedures

Article 1—Federal (Title V) Operating Permits for Stationary Sources

(Effective 11/16/2016)

9VAC5-80-50. Applicability.

9VAC5-80-60. Definitions.

9VAC5-80-70. General.

9VAC5-80-80. Applications.

9VAC5-80-90. Application information required.

9VAC5-80-100. Emission caps.

9VAC5-80-110. Permit content.

9VAC5-80-120. General permits.

9VAC5-80-130. Temporary sources.

9VAC5-80-140. Permit shield.

9VAC5-80-150. Action on permit application.

9VAC5-80-160. Transfer of permits.

9VAC5-80-170. Permit renewal and expiration.

9VAC5-80-180. Permanent shutdown for emissions trading.

9VAC5-80-190. Changes to permits.

9VAC5-80-200. Administrative permit amendments.

9VAC5-80-210. Minor permit modifications.

9VAC5-80-220. Group processing of minor permit modifications.

9VAC5-80-230. Significant modification procedures.

9VAC5-80-240. Reopening for cause.

9VAC5-80-250. Malfunction.

9VAC5-80-260. Enforcement.

9VAC5-80-270. Public participation.

9VAC5-80-280. Operational flexibility.

9VAC5-80-290. Permit review by EPA and affected states.

9VAC5-80-300. Voluntary inclusions of additional state-only requirements as applicable state requirements in the permit.

Article 2—Permit Program (Title V) Fees for Stationary Sources

(Effective 01/01/2018)

9VAC5-80-310. Applicability.

9VAC5-80-320. Definitions.

9VAC5-80-330. General.

9VAC5-80-340. Annual permit program fee calculation prior to January 1, 2018.

9VAC5-80-342. Annual Permit program emissions fee calculation on and after January 2, 2018.

9VAC5-80-350. Annual permit program emissions fee payment.

Article 4—Insignificant Activities

(Effective 01/01/2001)

9VAC5-80-710. General.

9VAC5-80-720. Insignificant activities.

Article 5—State Operating Permits

(Effective 12/31/2008)

9VAC5-80-800. Applicability.

9VAC5-80-810. Definitions.

9VAC5-80-820. General.

9VAC5-80-830. Applications.

9VAC5-80-840. Application information required.

9VAC5-80-850. Standards and conditions for granting permits.

9VAC5-80-860. Action on permit application.

9VAC5-80-870. Application review and analysis.

9VAC5-80-880. Compliance determination and verification by testing.

9VAC5-80-890. Monitoring requirements.

9VAC5-80-900. Reporting requirements.

9VAC5-80-910. Existence of permit no defense.

9VAC5-80-920. Circumvention.

9VAC5-80-930. Compliance with local zoning requirements.

9VAC5-80-940. Transfer of permits.

9VAC5-80-950. Termination of permits.

9VAC5-80-960. Changes to permits.

9VAC5-80-970. Administrative permit amendments.

9VAC5-80-980. Minor permit amendments.

9VAC5-80-990. Significant amendment procedures.

9VAC5-80-1000. Reopening for cause.

9VAC5-80-1010. Enforcement.

9VAC5-80-1020. Public participation.

9VAC5-80-1030. General permits.

9VAC5-80-1040. Review and evaluation of article.

Article 6—Permits for New and Modified Stationary Sources

(Effective 03/27/2014)

9VAC5-80-1100. Applicability.

9VAC5-80-1105. Permit Exemptions.

9VAC5-80-1110. Definitions.

9VAC5-80-1120. General.

9VAC5-80-1140. Applications.

9VAC5-80-1150. Application information required.

9VAC5-80-1160. Action on permit application.

9VAC5-80-1170. Public participation.

9VAC5-80-1180. Standards and conditions for granting permits.

9VAC5-80-1190. Application review and analysis.

9VAC5-80-1200. Compliance determination and verification by performance testing.

9VAC5-80-1210. Permit invalidation, suspension, revocation and enforcement.

9VAC5-80-1220. Existence of permit no defense.

9VAC5-80-1230. Compliance with local zoning requirements.

9VAC5-80-1240. Transfer of permits.

9VAC5-80-1250. General permits.

9VAC5-80-1255. Actions to combine permit terms and conditions.

9VAC5-80-1260. Actions to change permits.

9VAC5-80-1270. Administrative permit amendments.

9VAC5-80-1280. Minor permit amendments.

9VAC5-80-1290. Significant amendment procedures.

9VAC5-80-1300. Reopening for cause.

Article 7—Permits for New and Reconstructed Major Sources of HAPs

(Effective 12/31/2008)

9VAC5-80-1400. Applicability.

9VAC5-80-1410. Definitions.

9VAC5-80-1420. General.

9VAC5-80-1430. Applications.

9VAC5-80-1440. Application information required.

9VAC5-80-1450. Action on permit application.

9VAC5-80-1460. Public participation.

9VAC5-80-1470. Standards and conditions for granting permits.

9VAC5-80-1480. Application review and analysis.

9VAC5-80-1490. Compliance determination and verification by performance testing.

9VAC5-80-1500. Permit invalidation, rescission, revocation and enforcement.

9VAC5-80-1510. Existence of permit no defense.

9VAC5-80-1520. Compliance with local zoning requirements.

9VAC5-80-1530. Transfer of permits.

9VAC5-80-1540. Changes to permits.

9VAC5-80-1550. Administrative permit amendments.

9VAC5-80-1560. Minor permit amendments.

9VAC5-80-1570. Significant amendment procedures.

9VAC5-80-1580. Reopening for cause.

9VAC5-80-1590. Requirements for constructed or reconstructed major sources subject to a subsequently promulgated MACT standard or MACT requirements.

Article 8—Permits for Major Stationary Sources and Modifications—PSD Areas

(Effective 08/13/2015)

9VAC5-80-1605. Applicability.

9VAC5-80-1615. Definitions.

9VAC5-80-1625. General.

9VAC5-80-1635. Ambient air increments.

9VAC5-80-1645. Ambient air ceilings.

9VAC5-80-1655. Applications.

9VAC5-80-1665. Compliance with local zoning requirements.

9VAC5-80-1675. Compliance determination and verification by performance testing.

9VAC5-80-1685. Stack heights.

9VAC5-80-1695. Exemptions.

9VAC5-80-1705. Control technology review.

9VAC5-80-1715. Source impact analysis.

9VAC5-80-1725. Air quality models.

9VAC5-80-1735. Air quality analysis.

9VAC5-80-1745. Source information.

9VAC5-80-1755. Additional impact analyses.

9VAC5-80-1765. Sources affecting federal class I areas—additional requirements.

9VAC5-80-1773. Action on permit application.

9VAC5-80-1775. Public participation.

9VAC5-80-1785. Source obligation.

9VAC5-80-1795. Environmental impact statements.

9VAC5-80-1805. Disputed permits.

9VAC5-80-1815. Interstate pollution abatement.

9VAC5-80-1825. Innovative control technology.

9VAC5-80-1865. Actuals plantwide applicability limits (PALs).

9VAC5-80-1915. Actions to combine permit terms and conditions.

9VAC5-80-1925. Actions to change permits.

9VAC5-80-1935. Administrative permit amendments.

9VAC5-80-1945. Minor permit amendments.

9VAC5-80-1955. Significant amendment procedures.

9VAC5-80-1965. Reopening for cause.

9VAC5-80-1975. Transfer of permits.

9VAC5-80-1985. Permit invalidation, suspension, revocation, and enforcement.

9VAC5-80-1995. Existence of permit no defense.

Article 9—Permits for Major Stationary Sources and Modifications—Nonattainment Areas

(Effective 05/15/2017)

9VAC5-80-2000. Applicability.

9VAC5-80-2010. Definitions.

9VAC5-80-2020. General.

9VAC5-80-2030. Applications.

9VAC5-80-2040. Application information required.

9VAC5-80-2050. Standards and conditions for granting permits.

9VAC5-80-2060. Action on permit application.

9VAC5-80-2070. Public participation.

9VAC5-80-2080. Compliance determination and verification by performance testing.

9VAC5-80-2090. Application review and analysis.

9VAC5-80-2091. Source obligation.

9VAC5-80-2110. Interstate pollution abatement.

9VAC5-80-2120. Offsets.

9VAC5-80-2130. De minimis increases and stationary source modification alternatives for ozone nonattainment areas classified as serious or severe in 9VAC5-20-204.

9VAC5-80-2140. Exemptions.

9VAC5-80-2144. Actuals plantwide applicability limits (PALs).

9VAC5-80-2150. Compliance with local zoning requirements.

9VAC5-80-2170. Transfer of permits.

9VAC5-80-2180. Permit invalidation, suspension, revocation and enforcement.

9VAC5-80-2190. Existence of permit no defense.

9VAC5-80-2195. Actions to combine permit terms and conditions.

9VAC5-80-2200. Actions to change permits.

9VAC5-80-2210. Administrative permit amendments.

9VAC5-80-2220. Minor permit amendments.

9VAC5-80-2230. Significant amendment procedures.

9VAC5-80-2240. Reopening for cause.

Article 10—Permit Application Fees for Stationary Sources

(Effective 01/01/2018)

9VAC5-80-2250. Applicability.

9VAC5-80-2260. Definitions.

9VAC5-80-2270. General.

9VAC5-80-2280. Permit application fee calculation prior to January 1, 2018.

9VAC5-80-2282. Permit application fee calculation on and after January 1, 2018.

9VAC5-80-2290. Permit application fee payment.

Article 11—Annual Permit Maintenance Fees for Stationary Sources

(Effective 01/01/2018)

9VAC5-80-2310. Applicability.

9VAC5-80-2320. Definitions.

9VAC5-80-2330. General.

9VAC5-80-2340. Annual Permit Maintenance Fee Calculation Prior to January 1, 2018.

9VAC5-80-2342. Annual Permit Maintenance Fee Calculation on and After January 1, 2018.

9VAC5-80-2350. Annual Permit Maintenance Fee Payment.

Chapter 85—Permits for Stationary Sources of Pollutants Subject to Regulation

(Effective 08/13/2015)

Part I—Applicability

9VAC5-85-10. Applicability.

Part II—Federal (Title V) Operating Permit Actions

9VAC5-85-20. Federal (Title V) operating permit actions.

9VAC5-85-30. Definitions.

Part III—Prevention of Significant Deterioration Area Permit Actions

9VAC5-85-40. Prevention of Significant Deterioration Area permit actions.

9VAC5-85-50. Definitions.

Part IV—State Operating Permit Actions

9VAC5-85-60. State operating permit actions.

9VAC5-85-70. Definitions.

Chapter 130—Open Burning

(Effective 07/15/2015)

Part I—General Provisions

9VAC5-130-10. Applicability.

9VAC5-130-20. Definitions.

Part II—Volatile Organic Compound Emissions Control Areas

9VAC5-130-30. Open burning prohibitions.

9VAC5-130-40. Permissible open burning.

Part III—Special Statewide Requirements for Forestry, Agricultural and Highway Programs

9VAC5-130-50. Forest management, agricultural practices and highway construction and maintenance programs.

Chapter 151—Transportation Conformity

(Effective 11/16/2016)

Part I—General Definitions

9VAC5-151-10. Definitions.

Part II—General Provisions

9VAC5-151-20. Applicability.

9VAC5-151-30. Authority of board and DEQ.

Part III—Criteria and Procedures for Making Conformity Determinations

9VAC5-151-40. General.

9VAC5-151-50. Designated provisions.

9VAC5-151-60. Word or phrase substitutions.

9VAC5-151-70. Consultation.

Chapter 160—General Conformity

(Effective 05/15/2017)

Part I—General Definitions

9VAC5-160-10. General.

9VAC5-160-20. Terms defined.

Part II—General Provisions

9VAC5-160-30. Applicability.

9VAC5-160-40. Authority of board and department.

9VAC5-160-80. Relationship of state regulations to federal regulations.

Part III—Criteria and Procedures for Making Conformity Determinations

9VAC5-160-110. General.

9VAC5-160-120. Federal agency conformity analysis.

9VAC5-160-130. Reporting requirements.

9VAC5-160-140. Public participation.

9VAC5-160-150. Reevaluation of conformity.

9VAC5-160-160. Criteria for determining conformity of general federal actions.

9VAC5-160-170. Procedures for conformity determinations.

9VAC5-160-180. Mitigation of air quality impacts.

9VAC5-160-190. Savings provision.

(2) [Reserved]

* * * * *

[FR Doc. 2019-22704 Filed 10-18-19; 8:45 am]

BILLING CODE 6560-50-P